BROADCASTING BOARD OF GOVERNORS

Government in the Sunshine Act Meeting Notice

DATE AND TIME: Thursday, July 14, 2011, 4 p.m.

PLACE: Cohen Building, Room 3321, 330 Independence Ave., SW., Washington, DC 20237.

SUBJECT: Notice of Meeting of the Broadcasting Board of Governors.

SUMMARY: The Broadcasting Board of Governors (BBG) will be meeting at the time and location listed above. The BBG will receive and consider recommendations regarding the reorganization of the IBB and BBG staffs, the revision of Agency grant agreements, and actions in response to regional review studies. The BBG will receive reports from: Individual Governors regarding recent activities or trips; the BBG's Strategy and Budget Committee and Governance Committee; the International Broadcasting Bureau Director; and the Voice of America, the Office of Cuba Broadcasting, Radio Free Europe/Radio Liberty, Radio Free Asia, and the Middle East Broadcasting Networks regarding programming coverage updates. The meeting is open to public observation via streamed webcast, both live and on-demand, on the BBG's public Web site at http://www.bbg.gov.

CONTACT PERSON FOR MORE INFORMATION: Persons interested in obtaining more information should contact Paul Kollmer-Dorsey at (202) 203-4545.

Paul Kollmer-Dorsey,
Deputy General Counsel.

[FR Doc. 2011-17566 Filed 7-8-11; 4:15 pm]

BILLING CODE 8610-01-P